DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: CCC EXPORT CREDIT GUARANTEE PROGRAM (GSM-102).

OMB Control Number: 0551-0004.

Summary of Collection: The CCC Export Credit Guarantee Program (GSM-102) is administered by the U.S. Department of Agriculture's (USDA) Foreign Agricultural Service (FAS) on behalf of USDA's Commodity Credit Corporation (CCC). This program provides guarantees to exporters in order to maintain and increase overseas importers' ability to purchase U.S. agricultural goods. The GSM-102 underwrites credit extended by U.S. private banks to approved foreign banks using dollar-denominated, irrevocable letters of credit. The GSM-102 program covers credit terms up to 18 months.

Need and Use of the Information: Information is collected from participating U.S. exporters and U.S. and Foreign Financial Institutions in order to determine their eligibility for program benefits. The information is also utilized in fulfilling the CCC's obligation under the issued payment guarantee. The information collected enables exporters, U.S. banks and foreign banks to receive the benefits of the program and to ensure compliance with the Federal Funding Accountability and Transparency Act (FFATA), the Debt Collection Improvement Act (DCIA), and non-procurement suspension and debarment regulations found at 2 CFR parts 180 and 417.

Description of Respondents: U.S. exporters, U.S. financial institutions, and foreign financial institutions.

Number of Respondents: 88.

Frequency of Responses: Annually.

Total Burden Hours: 1,065.

Rachelle Ragland-Greene,
Acting Departmental Information Collection Clearance Officer.

[FR Doc. 2024-03037 Filed 2-13-24; 8:45 am]

BILLING CODE 3410-10-P